DEPARTMENT OF AGRICULTURE

Forest Service

Notice of Resource Advisory Committee, Custer, SD

AGENCY: USDA Forest Service.

ACTION: Notice of Meeting.

SUMMARY: Pursuant to authorities in the Federal Advisory Committee Act (Pub. L. 92-463) and the Secure Rural Schools and Community Self determination Act of 2000 (Pub. L. 106-393), the Black Hills National Forest's Custer County Resource Advisory Committee will meet on Thursday, June 7, 2007 in Custer, South Dakota for a business meeting. The meeting is open to the public.

SUPPLEMENTARY INFORMATION: The business meeting on June 7, 2007, will begin at 6 p.m. at the Black Hills National Forest Supervisor's office at 1019 N. 5th Street, Custer, South Dakota. Agenda topics will include the discussion of potential projects.

FOR FURTHER INFORMATION CONTACT: Mike Lloyd, Hell Canyon District Ranger and Designated Federal Officer, at 605-673-4853.

Michael D. Lloyd,
District Ranger.

[FR Doc. 07-2259 Filed 5-7-05; 8:45 am]

BILLING CODE 3410-11-M